DEPARTMENT OF THE INTERIOR

Geological Survey

Agency Information Collection Activities: Comment Request

AGENCY: U.S. Geological Survey (USGS), Interior.

ACTION: Notice of a new information collection.

SUMMARY: To comply with the Paperwork Reduction Act of 1995 (PRA), we are notifying the public that we will submit to OMB a new information collection request (ICR) for approval of the paperwork requirements for the National Cooperative Geologic Mapping Program (NCGMP). To submit a proposal for the NCGMP three standard OMB forms and project narrative must be completed and submitted via on Grants.gov. This notice provides the public an opportunity to comment on the paperwork burden of these forms. The forms are available at http://wwwO7.grants.gov/agencies/approved_standard_forms.jsp and the NCGMP narrative guidance is available at http://www.usgs.gov/contracts/STATEMAP/index.html.

DATE: Submit written comments by June 23, 2008.

ADDRESSES: You may submit comments on this information collection to the Department of the Interior, USGS, via:

• E-mail atravnic@usgs.gov. Use Information Collection Number __-NEW, NCGMP in the subject line.

• FAX: (703) 648-7069. Use Information Collection Number __-NEW, NCGMP in the subject line.

• Mail or hand-carry comments to the Department of the Interior; USGS Clearance Officer, U.S. Geological Survey, 807 National Center, Reston, VA 20192. Please reference Information Collection __-NEW, NCGMP in your comments.

FOR FURTHER INFORMATION CONTACT: Randall Orndorff. 703-648-4316. Copies of the forms can be obtained at no cost at http://www.reginfo.gov, or by contacting the USGS clearance officer at the phone number listed below.

SUPPLEMENTARY INFORMATION: Title: National Cooperative Geologic Mapping Program (NCGMP).

OMB Control Number: __-NEW NCGMP.

Form Number: Standard Form 424 “Application for Federal Assistance”, Standard Form 424A “Budget Information Non-Construction Programs”, and Standard Form 424B “Assurances Non-Construction Programs”, and Project narrative guidance posted on Grants.gov.

Abstract: The primary objectives of the STATEMAP component of the NCGMP are to establish the geologic framework of areas determined to be vital to the economic, social, or scientific welfare of individual States. The State Geologist shall determine mapping priorities in consultation with a multi-representational State Mapping Advisory Committee. These priorities shall be based on: (a) state requirements for geologic-map information in areas of multiple-issue need or areas of compelling single-issue need, and (b) State requirements for geologic-map information in areas where mapping is required to solve critical earth-science problems. Priorities are not dependent on past agreements with the USGS. The community partner is the state geological surveys whose responsibilities vary from state to state. The state surveys function as basic scientific information sources for their state governments, and some have regulatory responsibilities for water, oil and gas, and land reclamation. Many are associated with state university systems. Every federal dollar awarded to a state geological survey through an annual competitive grant process is matched by a state dollar. State priorities are set with the advice of the broad-based State Mapping Advisory Committee. Since the beginning of the Program in 1992, the states have matched over $60 million. In 2006, STATEMAP is supporting 125 projects in 47 states. The authority for the program is listed in the National Geologic Mapping Act (Pub. L. 106-148).

We will protect information from respondents considered proprietary under the Freedom of Information Act (5 U.S.C. 552) and its implementing regulations (43 CFR Part 2), and under regulations at 30 CFR 250.197, “Data and information to be made available to the public or for limited inspection.” Responses are voluntary. No questions of a “sensitive” nature are asked. We intend to release the project abstracts and primary investigators for awarded/funded projects only.

Frequency: Annually.

Estimated Number and Description of Respondents: 50 State Geological Surveys are canvassed for one frequency period.

Estimated Number of Responses: Approximately 46 proposals are submitted by individuals involved in the area of geologic mapping.

Annual burden hours: 920.

Estimated Annual Reporting and Recordkeeping “Hour” Burden: We estimate the public reporting burden averages 20 hours per response. This includes the time for prioritizing project, developing, writing, reviewing proposal and submitting the information through Grants.gov.

Estimated Reporting and Recordkeeping “Non-Hour Cost” Burden: There are no “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

Comments: Before submitting an ICR to OMB, PRA section 3506(c)(2)(A) (44 U.S.C. 3501, et seq.) requires each agency” * * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we publish this Federal Register notice announcing that we will submit this ICR to OMB for approval. The notice provided the required 60-day public comment period.

USGS Information Collection Clearance Officer: Alfred Travnicek, 703-648-7231.

Dated: April 15, 2008.
Randall C. Orndorff,
Program Coordinator, National Cooperative Geologic Mapping Program.

[FR Doc. E8-8527 Filed 4-21-08; 8:45 am]

BILLING CODE 4311-AM-M